DEPARTMENT OF THE INTERIOR

Fish and Wildlife Service

[FWS-R9-FHC-2009-N0029; 94300-1122-0000-Z2]

Wind Turbine Guidelines Advisory Committee; Announcement of Public Teleconference and Webcast

AGENCY: Fish and Wildlife Service, Interior.

ACTION: Notice of public teleconference and webcast.

SUMMARY: We, the U.S. Fish and Wildlife Service (Service), will host a Wind Turbine Guidelines Advisory Committee (Committee) meeting via webcast and teleconference, on March 6, 2009. This meeting is open to the public but will be limited to 75 public participants. The meeting agenda will include a briefing and discussion of the Information, Planning, and Consultation System (IPaC) to inform the Committee in its development of recommendations to the Secretary of the Interior.

DATES: Meeting: The meeting will take place on March 6, 2009, from 1 to 3 p.m. Eastern Time.

Pre-meeting Public Registration: If you are a member of the public wishing to participate in the March meeting, you must register online by February 27, 2009 (see “Meeting Participation Information” in SUPPLEMENTARY INFORMATION).

FOR FURTHER INFORMATION CONTACT: Rachel London, Division of Habitat and Resource Conservation, U.S. Fish and Wildlife Service, Department of the Interior, (703) 358-2161.

SUPPLEMENTARY INFORMATION:

Background

On March 13, 2007, the Department of the Interior (Interior) published a notice of establishment of the Committee and call for nominations in the Federal Register (72 FR 11373). The Committee's purpose is to provide advice and recommendations to the Secretary of the Interior (Secretary) on developing effective measures to avoid or minimize impacts to wildlife and their habitats related to land-based wind energy facilities. Committee is expected to exist for 2 years. Its continuation is subject to biennial renewal. The Committee meets approximately four times per year, and all Committee members serve without compensation.

In accordance with the Federal Advisory Committee Act (5 U.S.C. App.), a copy of the Committee's charter has been filed with the Committee Management Secretariat, General Services Administration; Committee on Environment and Public Works, U.S. Senate; Committee on Natural Resources, U.S. House of Representatives; and the Library of Congress. The Secretary appointed 22 individuals to the Committee on October 24, 2007, representing the varied interests associated with wind energy development and its potential impacts to wildlife species and their habitats. We held five Committee meetings in 2008, and held a sixth meeting January 27-29, 2009. All Committee meetings are open to the public. The public has an opportunity to comment at all Committee meetings.

Meeting Participation Information

This meeting is open to the public and is limited to 75 registrants. Members of the public planning to participate must register at http://www.fws.gov/habitatconservation/windpower/wind_turbine_advisory_committee.html by close of business, February 27, 2009. Registrants will be provided with instructions for participation via e-mail. We will give preference to registrants based on date and time of registration.

Dated: January 30, 2009.
Rachel London,
Wind Turbine Guidelines Advisory Committee Alternate Designated Federal Officer.

[FR Doc. E9-3158 Filed 2-12-09; 8:45 am]

BILLING CODE 4310-55-P